LIBRARY OF CONGRESS

Copyright Office

Notice of Inquiry and Request for Comments on the Topic of Facilitating Access to Copyrighted Works for the Blind or Persons With Other Disabilities; Notice of Public Meeting

AGENCY: United States Copyright Office, Library of Congress.

ACTION: Notice of inquiry and request for comments; Notice of public meeting; Reopened.

SUMMARY: The United States Copyright Office (Copyright Office) and the United States Patent and Trademark Office (USPTO) are extending the time in which comments and reply comments may be filed on the topic of facilitating access to copyrighted works for “blind or other persons with disabilities” ¹ in connection with a forthcoming meeting of the Standing Committee on Copyright and Related Rights of the World Intellectual Property Organization.

¹ Various terms are used formally and informally throughout the world. When inquiring about experiences within the United States, the term used in this Notice of Inquiry is that which appears in U.S. copyright law. See 17 U.S.C. 121(d)(2). There, the term “blind or other persons with disabilities” is defined to include individuals who are eligible or who may qualify in accordance with the Act entitled “An Act to provide books for the adult blind,” approved March 3, 1931 (2 U.S.C. 135a; 46 Stat. 1487).

DATES: Initial comments on the Notice of Inquiry and Request for Comments are due 5 p.m. on April 28, 2009. Reply comments are due 5 p.m. on May 12, 2009.

ADDRESSES: If hand-delivered by a private party, an original and five copies of a comment or a reply comment should be brought to the Library of Congress, U.S. Copyright Office, Public Information Office, Room LM-401, 101 Independence Avenue, SE., Washington, DC 20559, between 8:30 a.m. and 5 p.m. The envelope should be addressed as follows: Office of Policy and International Affairs, U.S. Copyright Office.

If delivered by a commercial courier, an original and five copies of a comment or reply comment must be delivered to the Congressional Courier Acceptance Site (CCAS) located at 2nd and D Streets, NE., Washington, DC, between 8:30 a.m. and 4 p.m. The envelope should be addressed as follows: Office of Policy and International Affairs, U.S. Copyright Office, Room LM-403, James Madison Building, 101 Independence Avenue, SE., Washington, DC 20559. Please note that CCAS will not accept delivery by means of overnight delivery services such as FEDEX, United Parcel Service, or DHL. If sent by mail (including overnight delivery using U.S. Postal Service Express Mail), an original and five copies of a comment or reply comment should be addressed to U.S. Copyright Office, Office of Policy and International Affairs, Copyright GC/I & R, P.O. Box 70400, Washington, DC 20024.

Electronic submissions may be made through the Copyright Office Web site: http://www.copyright.gov/docs/sccr/comments. The comment form for initial comments has been activated. The comment form for reply comments will be activated approximately one week prior to the deadline. All comments submitted electronically must be submitted as an attachment, and must be in a single file in either Adobe Portable Document File (PDF) format that contains searchable, accessible text (not an image); Microsoft Word; WordPerfect; Rich Text Format (RTF); or ASCII text file format. The maximum file size is 6 megabytes (MB). The attached comment must include the name of the commenter. There is a browse button on the form that will allow commenters to attach the comment file to the form and then to submit the completed form to the Copyright Office. The Copyright Office and the USPTO intend to post all comments from this proceeding on the Copyright Office Web site. For comments submitted electronically, the name and organization of the commenter from the comment form will be posted together with the entire attached comment document. Other information from the comment form will not be posted, but note that if the same information is included in the attached document it will be available on the Copyright Office Web site as part of the attachment.

FOR FURTHER INFORMATION CONTACT: Maria Pallante, Associate Register, Policy and International Affairs, or Michele Woods, Senior Counsel for Policy and International Affairs, by telephone at 202-707-1027, by facsimile at 202-707-8366 or by electronic mail at mpall@loc.gov or mwoo@loc.gov.

SUPPLEMENTARY INFORMATION: The United States Copyright Office and the United States Patent and Trademark Office are extending the comment and reply comment periods for commenting on the topic of facilitating access to copyrighted works for “blind or other persons with disabilities” in connection with a forthcoming meeting of the Standing Committee on Copyright and Related Rights of the World Intellectual Property Organization. This action is being taken in order to allow interested parties adequate time to give input on this important issue.

Comments are due by 5 p.m. on April 28, 2009. Reply comments are due by 5 p.m. on May 12, 2009.

Dated: April 22, 2009.
Maria Pallante,
Associate Register for Policy & International Affairs, U.S. Copyright Office.

[FR Doc. E9-9526 Filed 4-22-09; 4:15 pm]

BILLING CODE 1410-30-P